DEPARTMENT OF ENERGY

Draft Supplemental Environmental Impact Statement for a Geologic Repository for the Disposal of Spent Nuclear Fuel and High-Level Radioactive Waste at Yucca Mountain, Nye County, NV and Draft Supplemental Environmental Impact Statement for a Geologic Repository for the Disposal of Spent Nuclear Fuel and High-Level Radioactive Waste at Yucca Mountain, Nye County, Nevada—Nevada Rail Transportation Corridor and Draft Environmental Impact Statement for a Rail Alignment for the Construction and Operation of a Railroad in Nevada to a Geologic Repository at Yucca Mountain, Nye County, NV

AGENCY: U.S. Department of Energy.

ACTION: Notice of availability.

SUMMARY: The Department of Energy (DOE or the Department) announces the availability of two draft National Environmental Policy Act (NEPA) documents related to its Yucca Mountain Project: Draft Supplemental Environmental Impact Statement for a Geologic Repository for the Disposal of Spent Nuclear Fuel and High-Level Radioactive Waste at Yucca Mountain, Nye County, Nevada (DOE/EIS-0250F-S1D) (Draft Repository SEIS), and the Draft Supplemental Environmental Impact Statement for a Geologic Repository for the Disposal of Spent Nuclear Fuel and High-Level Radioactive Waste at Yucca Mountain, Nye County, Nevada—Nevada Rail Transportation Corridor (Draft Nevada Rail Corridor SEIS) (DOE/EIS-0250F-S2D) and Draft Environmental Impact Statement for a Rail Alignment for the Construction and Operation of a Railroad in Nevada to a Geologic Repository at Yucca Mountain, Nye County, Nevada (DOE/EIS-0369D) (Draft Rail Alignment EIS). The Department has prepared these documents consistent with NEPA, the Council on Environmental Quality (CEQ) regulations that implement the procedural provisions of NEPA (40 CFR parts 1500-1508), and DOE procedures implementing NEPA (10 CFR part 1021).

Nye County, Nevada, the location of the proposed Yucca Mountain repository, participated as a cooperating agency in the preparation of the Draft Repository SEIS. The U.S. Air Force, U.S. Bureau of Land Management, and the Surface Transportation Board participated as cooperating agencies in the preparation of the Draft Nevada Rail Corridor SEIS and Draft Rail Alignment EIS.

DOE invites interested parties to comment on the two documents during a 90-day public comment period. During the public comment period, DOE will hold eight public hearings at six locations in Nevada, one location in California, and one location in Washington, DC, the locations and times of which are described below.

DATES: The Department invites comments on the Draft Repository SEIS, and the Draft Nevada Rail Corridor SEIS and Draft Rail Alignment EIS during the 90-day public comment period, which ends January 10, 2008. Comments received after this date will be considered to the extent practicable. Public hearings are described below in the SUPPLEMENTARY INFORMATION section.

ADDRESSES: Requests for additional information on the Draft Repository SEIS, or the Draft Nevada Rail Corridor SEIS and Draft Rail Alignment EIS should be directed to either: Dr. Jane Summerson or Mr. Lee Bishop, EIS Office, Office of Civilian Radioactive Waste Management, U.S. Department of Energy, 1551 Hillshire Drive, Las Vegas, NV 89134, or by calling 1-800-967-3477 or faxing a request to 1-800-967-0739.

Written comments on the Draft Repository SEIS, and/or the Draft Nevada Rail Corridor SEIS and Draft Rail Alignment EIS may be submitted to the EIS Office at the above address, by facsimile to 1-800-967-0739, or via the Internet at http://www.ocrwm.doe.gov.

FOR FURTHER INFORMATION CONTACT: For general information regarding the DOE NEPA process contact: Ms. Carol M. Borgstrom, Director, Office of NEPA Policy and Compliance, U.S. Department of Energy, 1000 Independence Ave., SW., Washington, DC 20585, Telephone 202-586-4600, or leave a message at 1-800-472-2756.

SUPPLEMENTARY INFORMATION:

Background

Section 111(a)(4) of the Nuclear Waste Policy Act of 1982, as amended (NWPA), 42 U.S.C. 10131, states that the Federal Government has the:

* * * responsibility to provide for the permanent disposal of high-level radioactive waste and such spent nuclear fuel as may be disposed of in order to protect the public health and safety and the environment.

The NWPA directs the Secretary of Energy, if the Secretary decides to recommend approval of the Yucca Mountain site for development of a repository, to submit a final environmental impact statement with any recommendation to the President. The Department prepared the Final Environmental Impact Statement for a Geologic Repository for the Disposal of Spent Nuclear Fuel and High-Level Radioactive Waste at Yucca Mountain, Nye County, Nevada (DOE/EIS-0250F) (Yucca Mountain Final EIS) to fulfill that requirement.

On February 14, 2002, the Secretary transmitted his recommendation (including the Yucca Mountain Final EIS) to the President for approval of the Yucca Mountain site for development of the Nation's first permanent geologic repository for the disposal of spent nuclear fuel and high-level radioactive waste. The President considered the site qualified for application to the U.S. Nuclear Regulatory Commission (NRC) for construction authorization and recommended the site to the U.S. Congress. Subsequently, on July 23, 2002, the President signed into law (Pub. L. 107-200) a joint resolution of the U.S. House of Representatives and the U.S. Senate designating the Yucca Mountain site for development as a geologic repository for the disposal of spent nuclear fuel and high-level radioactive waste. The Department is preparing an application for submittal to the NRC seeking authorization to construct the repository, as required by the NWPA (Section 114(b)).

In the Yucca Mountain Final EIS, DOE considered the potential environmental impacts of a repository design for surface and subsurface facilities; a range of canister packaging scenarios and repository thermal operating modes; and plans for the construction, operation, monitoring, and eventual closure of the repository. The Yucca Mountain Final EIS also described and evaluated the transportation of spent nuclear fuel and high-level radioactive waste from commercial and DOE sites to the repository by two principal modes—mostly truck and mostly rail. DOE recognized at that time that these repository design concepts and operational plans would continue to develop during the design and engineering process.

Since completion of the Yucca Mountain Final EIS in 2002, DOE has continued to develop the repository design and associated construction and operational plans. For example, as now proposed, the newly designed surface and subsurface facilities would allow DOE to operate the repository following a primarily canistered approach in which most commercial spent nuclear fuel would be packaged at the reactor sites in transportation, aging, and disposal (TAD) canisters. Any commercial spent nuclear fuel arriving at the repository in packages other than TAD canisters would be repackaged by DOE into TAD canisters in these surface facilities at the repository. DOE would construct these facilities over a period of several years (referred to as phased construction) to accommodate the increase in spent nuclear fuel and high-level radioactive waste receipt rates as repository operational capability reaches its design capacity.

On October 13, 2006 (71 FR 60490), the Department issued a Notice of Intent to prepare a supplement to the Yucca Mountain Final EIS, to inform the public of the proposed scope of the Repository SEIS, to solicit public input regarding the document's scope, and to announce the schedule of scoping meetings that would be held. During the public scoping period, which closed on December 12, 2006, DOE held four public scoping meetings.

The Draft Repository SEIS evaluates a Proposed Action and a No Action Alternative. Under the Proposed Action, DOE would construct, operate, monitor, and eventually close a geologic repository at Yucca Mountain for the disposal of up to 70,000 metric tons of heavy metal (MTHM) of commercial and DOE-owned spent nuclear fuel and high-level radioactive waste. Under the Proposed Action, most spent nuclear fuel and high-level radioactive waste would be shipped from 72 commercial and 4 DOE sites to the repository in NRC-certified transportation casks placed on trains dedicated only to these shipments. Some shipments would arrive at the repository by truck.

Under the No Action Alternative, DOE would terminate activities at Yucca Mountain and undertake site reclamation to mitigate any significant adverse environmental impacts.

Commercial nuclear power utilities and DOE would continue to manage spent nuclear fuel and high-level radioactive waste at sites throughout the United States.

Since issuance of the Yucca Mountain Final EIS, DOE issued a Record of Decision on April 8, 2004 (69 FR 18557) announcing its selection, both nationally and in the State of Nevada, of the mostly rail scenario analyzed in the Yucca Mountain Final EIS as the mode of transportation for shipments of spent nuclear fuel and high-level radioactive waste to the repository. Implementation of the mostly rail scenario ultimately will require construction of a rail line to connect the repository site at Yucca Mountain to an existing rail line in the State of Nevada. To that end, in the same Record of Decision, the Department also selected the Caliente rail corridor to study possible alignments for this proposed rail line within Nevada.

Also on April 8, 2004 (69 FR 18565), DOE published a Notice of Intent to prepare an EIS under NEPA for the alignment, construction, and operation of a rail line for shipments of spent nuclear fuel, high-level radioactive waste, and other materials related to the construction and operation of a repository from a site near Caliente, Nevada, to a geologic repository at Yucca Mountain, Nevada (Rail Alignment EIS; DOE/EIS-0369). The subsequent public scoping period closed on June 1, 2004, during which time the Department held five public scoping meetings.

During this public scoping period, DOE received comments suggesting that other rail corridors should be considered, in particular, the Mina route, which crosses the Walker River Paiute Tribe Reservation. In the Yucca Mountain Final EIS, DOE had considered but eliminated the Mina route from detailed study. The Department did not study the Mina route in detail in the Yucca Mountain Final EIS because a rail line within the Mina route could only connect to an existing rail line by crossing the Walker River Paiute Reservation, and the Tribe had informed DOE that it objected to the transportation of nuclear waste across its Reservation. However, following review of the scoping comments, DOE held discussions with the Tribe regarding the availability of the Mina route for evaluation. In May 2006, the Tribal Council for the Walker River Paiute Tribe informed DOE that it withdrew its objection to the completion of an EIS for the transportation of nuclear waste across the Walker River Paiute Reservation.

On October 13, 2006 (71 FR 60484), after a preliminary evaluation of the feasibility of the Mina rail corridor, DOE amended its 2004 Notice of Intent and announced the Department's intent to expand the scope of the Rail Alignment EIS to consider the potential environmental impacts of constructing and operating a rail line within the Mina corridor (corridor-level analysis) and, if warranted, to consider in detail alignments for the construction and operation of a railroad within the Mina corridor (in addition to alignments within the Caliente corridor). The subsequent public scoping period closed on December 12, 2006, during which time the Department held eight public scoping meetings.

The expanded EIS (now the Draft Nevada Rail Corridor SEIS and Draft Rail Alignment EIS) is comprised of two parts. The Draft Nevada Rail Corridor SEIS (DOE/EIS-0250F-S2D) supplements the Nevada rail corridor analysis in the Yucca Mountain Final EIS by analyzing the potential environmental impacts associated with constructing and operating a railroad to connect the Yucca Mountain repository to an existing rail line near Wabuska, Nevada (the Mina corridor). In it, DOE analyzes the Mina corridor at a level of detail commensurate with that of the rail corridor analysis in the Yucca Mountain Final EIS. DOE also analyzes a No Action Alternative under which DOE would not construct and operate a railroad within the Mina corridor. The Draft Nevada Rail Corridor SEIS also updates, as appropriate, the rail corridor analysis of the Yucca Mountain Final EIS to identify any significant new circumstances or information relevant to environmental concerns associated with rail corridors analyzed previously (Carlin, Valley Modified, and Jean rail corridors).

The Draft Rail Alignment EIS (DOE/EIS-0369D) analyzes the potential environmental impacts associated with potential rail alignments within the Caliente and Mina corridors, and analyzes constructing and operating a railroad in Nevada to transport spent nuclear fuel, high-level radioactive waste, and other Yucca Mountain project materials to a repository at Yucca Mountain. As such, it tiers from the broader corridor analysis in both the Yucca Mountain Final EIS and the Draft Nevada Rail Corridor SEIS, consistent with CEQ regulations (see 40 CFR 1508.28). The Draft Rail Alignment EIS also analyzes a No Action Alternative under which DOE would not determine an alignment nor construct and operate a railroad within either the Caliente or Mina corridors.

On April 17, 2007, the Tribal Council for the Walker River Paiute Tribe passed a resolution withdrawing support for the Tribe's participation in the preparation of the Draft Rail Corridor SEIS and Draft Rail Alignment EIS. The Tribal Council's decision was based on a review of information gathered to date and input from tribal members.

The Tribal Council's resolution also renewed the Tribe's past objection to the transportation of nuclear waste through their Reservation. Accordingly, DOE has identified the Mina Implementing Alternative as “nonpreferred” in the Draft Rail Alignment EIS.

In the Draft Rail Alignment EIS, the Department identifies the Caliente Implementing Alternative as its preferred alternative, and identifies its preferred rail alignment as comprising the following segments (starting in Caliente and ending at Yucca Mountain): Caliente Alternative Segment, Common Segment 1, Garden Valley 1, Common Segment 2, South Reveille 3, Common Segment 3, Goldfield 3, Common Segment 4, Bonnie Claire 3, Common Segment 5, Oasis Valley 1, and Common Segment 6. The location of these segments and the basis for DOE's preferences are provided in the document. The Department also indicates in the Draft Rail Alignment EIS that it prefers the Shared Use option, that is, DOE would make its rail line available to commercial shippers for shipments of general freight. The Department invites comments on its preferred implementing alternative and associated preferred rail alignment and on its preference to enable use of the rail line by commercial shippers.

DOE, in the Draft Rail Alignment EIS, also evaluates three potential locations along the Caliente Implementing Alternative for a Staging Yard: Two along the Caliente alternative segment (referred to as Indian Cove and Upland) and one along the Eccles alternative segment (referred to as Eccles-North). The Staging Yard would be used to hold railcars with spent nuclear fuel and high-level radioactive waste, and to hold and sort railcars with construction and other materials. The Department has not identified a preferred location for the Staging Yard and invites comments that would help DOE identify a preferred location.

Other Agency Involvement

Nye County, Nevada, the location of the proposed Yucca Mountain repository, participated as a cooperating agency in the preparation of the Draft Repository SEIS. The U.S. Air Force, the U.S. Bureau of Land Management, and the Surface Transportation Board are cooperating agencies in the preparation of the Draft Nevada Rail Corridor SEIS and Rail Alignment EIS.

Public Hearings and Invitation To Comment

The public is invited to provide oral and written comments on the Draft Repository SEIS, and/or Draft Nevada Rail Corridor SEIS and Draft Rail Alignment EIS during a 90-day public comment period. The comment period begins with publication of this Notice of Availability in the Federal Register and closes on January 10, 2008. Comments received after this date will be considered to the extent practicable in the preparation of both final NEPA documents.

DOE will hold eight public hearings on the Draft Repository SEIS, and Draft Nevada Rail Corridor SEIS and Draft Rail Alignment EIS. The hearings will be held at the following locations and times:

• Hawthorne, Nevada. Hawthorne Convention Center, 932 E. Street, November 13, 2007, from 4 to 7 p.m.

• Caliente, Nevada. Caliente Youth Center, U.S. Highway 93, November 15, 2007, from 5:30 to 8 p.m.

• Reno/Sparks, Nevada. Reno-Sparks Convention Center, 4590 S. Virginia Street, November 19, 2007, from 4 to 7 p.m.

• Town of Amargosa Valley, Nevada. Longstreet Inn & Casino, Highway 373, November 26, 2007, from 4 to 7 p.m.

• Goldfield, Nevada. Goldfield School Gymnasium, Hall & Euclid, November 27, 2007, from 4 to 7 p.m.

• Lone Pine, California. Statham Hall, 138 N. Jackson Street, November 29, 2007, from 4 to 7 p.m.

• Las Vegas, Nevada. Cashman Center, 850 Las Vegas Blvd., December 3, 2007, from 4 to 7 p.m.

• Washington, DC Marriott at Metro Center, 775 12th Street, NW., December 5, 2007, from 2 to 5 p.m.

The public hearings will provide members of the public the opportunity to provide oral comments on the record. Members of the public who plan to present oral comments are asked to register in advance by calling 1-800-225-6972; speakers also may register upon arrival at the hearing location. The Department intends to allot five minutes to each individual wishing to provide oral comments so as to ensure that each registered individual has the opportunity to speak. If time permits, more than five minutes will be allotted by the hearing officer.

Prior to, and coincident with, the public hearings, members of the public are invited to engage DOE representatives in one-on-one discussions in an open-house format. Members of the public also may offer comments in writing or in person (orally) to a DOE representative in the presence of a court reporter during these discussions.

Comments on the Draft Repository SEIS, and/or Draft Nevada Rail Corridor SEIS and Draft Rail Alignment EIS may be provided in writing, by facsimile, or via the Internet to the EIS Office (see ADDRESSES above).

Public Reading Rooms

Documents referenced in this Notice of Availability and related information are available at the following locations: Esmeralda County Yucca Mountain Oversight Office, 274 E. Crook Avenue, Goldfield, NV 89013, (775) 485-3419; Lincoln County Nuclear Waste Project Office, 100 Depot Avenue, Caliente, NV 89008, (775) 726-3511; Nye County Nuclear Waste Repository Project Office, 1210 E. Basin Road, Suite #6, Pahrump, NV 89060 (775) 727-7727; Pahrump Yucca Mountain Information Center, 2341 Postal Drive, Pahrump, NV 89048, (775) 751-7480; University of Nevada, Reno, The University of Nevada Libraries, Business and Government Information Center, M/S 322, 1664 N. Virginia Street, Reno, NV 89557, (775) 813-6496; and the U.S. Department of Energy Headquarters Office Public Reading Room, 1000 Independence Avenue, SW., Room 1E-190 (ME-74) FORS, Washington, DC 20585, 202-586-3142.

Issued in Washington, DC, on October 9, 2007.
Edward F. Sproat, III,
Director, Office of Civilian Radioactive Waste Management.

[FR Doc. E7-20135 Filed 10-11-07; 8:45 am]

BILLING CODE 6450-01-P